DEPARTMENT OF TRANSPORTATION

Federal Railroad Administration

[Docket Number FRA-2009-0063]

Petition for Waiver of Compliance

Under part 211 of title 49 Code of Federal Regulations (CFR), this document provides the public notice that on January 22, 2020, the Mohawk, Adirondack, and Northern Railroad Corporation (MHWA) petitioned the Federal Railroad Administration (FRA) to extend a waiver of compliance from the safety glazing requirements of 49 CFR 223.11, Requirements for existing locomotives. FRA assigned the petition Docket Number FRA-2009-0063.

Specifically, MHWA seeks to extend its waiver for one 80-ton, 470-horsepower diesel-electric locomotive numbered 1670. This locomotive was built for the United States Air Force by General Electric in March 1952.

MHWA operates this locomotive on a terminal/switching railroad at the former Griffiss Air Force Base in Rome, New York, now called the Griffiss Industrial Park. MHWA operates at speeds not exceeding 10 miles per hour and hauls one to three cars on a once-per-week basis. The locomotive is equipped with safety laminate glass (AS-1, AS-2) and is serviced and maintained by MHWA at Rome, New York. MHWA requests the extension due to the “high cost to replace the glazing and the low risk to safety of continuing to operate with the current glazing.”

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by March 20, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety Chief Safety Officer.

[FR Doc. 2020-02031 Filed 2-3-20; 8:45 am]

BILLING CODE 4910-06-P